DEPARTMENT OF JUSTICE

Notice of Lodging of Proposed Consent Decree Under the Clean Air Act

On December 17, 2024, the United States lodged a proposed Consent Decree and Environmental Settlement Agreement with the United States Bankruptcy Court for the Southern District of Texas in the Chapter 11 bankruptcy cases filed by Vertex Energy, Inc., as Lead Debtor, and its Affiliated Debtors in the case captioned In re Vertex Energy, Inc., et al., Case No. 24-90507-CML.

The proposed Consent Decree requires the Debtors, and after the effective date of the Debtors' plan of reorganization, the Reorganized Debtors, to retire over 18.7 million renewable identification number credits, currently estimated to cost approximately $15 million, to satisfy the Debtors' 2023 and 2024 renewable volume obligations by March 31, 2025.

The publication of this notice opens a period for public comment on the proposed Consent Decree. Comments should be addressed to the Assistant Attorney General, Environment and Natural Resources Division, and should refer to In re Vertex Energy, Inc., et al., D.J. Ref. No. 90-5-2-1-13141. All comments must be submitted no later than ten (10) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Patricia McKenna,
Deputy Section Chief, Environmental Enforcement Section, Environment and Natural Resources Division.

[FR Doc. 2024-30505 Filed 12-20-24; 8:45 am]

BILLING CODE 4410-15-P